DEPARTMENT OF JUSTICE

Notice of Lodging of Consent Decree Under the Comprehensive Environmental Response, Compensation and Liability Act

Notice is hereby given that on July 16, 2007, a proposed Consent Decree in United States v. Dixie-Narco, Inc., et al., Civil Action No. 1:07-cv-1925-MBS, was lodged with the United States District Court for the District of South Carolina.

The proposed Consent Decree resolves the United States' claims under Sections 106 and 107 of the Comprehensive Environmental Response, Compensation, and Liability Act, 42 U.S.C. 9606 and 9607, for implementation of remedial action and recovery of response costs incurred and to be incurred by the United States at the Admiral Home Appliances Superfund Alternative Site located in Williston, Barnwell County, south Carolina. The Consent Decree requires Dixie-Narco, Inc., Maytag Corporation and Rheem Manufacturing Company to conduct remedial action at the Admiral Home Appliances site, pay EPS's costs to oversee the work, and pay EPA's remaining unreimbursed costs incurred at the site.

The Department of Justice will receive for a period of thirty (30) days from the date of this publication comments relating to the proposed Consent Decree. Comments should be addressed to the Assistant Attorney General, Environment and Natural Resources Division, and either e-mailed to pubcomment-ees.enrd@usdoj.gov. or mailed to P.O. Box 7611, U.S. Department of Justice, Washington, DC 20044-7611, and should refer to United States v. Dixie-Narco, Inc., et al., D.J. Ref. 90-11-3-07761/1.

The proposed Consent Decree may be examined at the Office of the United States Attorney, 1441 Main Street, Suite 500, Columbia, SC 29201, and at U.S. EPA Region IV, 61 Forsyth Street, SW., Atlanta, GA 30303. During the public comment period, the proposed Consent Decree may also be examined on the following Department of Justice Web site: http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $58.25 for the Consent Decree plus Appendices or $13 for the Consent Decree without Appendices (25 cents per page reproduction cost), payable to the U.S. Treasury or, if by e-mail or fax, forward a check in that amount to the Consent Decree Library at the stated address.

Henry S. Friedman,
Assistant Chief, Environmental Enforcement Section, Environment and Natural Resources Division.

[FR Doc. 07-3642 Filed 7-24-07; 8:45 am]

BILLING CODE 4410-15-M